DEPARTMENT OF ENERGY

Federal Energy Regulatory Commission

Combined Notice of Filings #2

Take notice that the Commission received the following electric rate filings:

Docket Numbers: ER21-43-001.

Applicants: Exelon Generation Company, LLC.

Description: Compliance filing: Amendment to WECC Soft Offer Cap to be effective N/A.

Filed Date: 11/6/20.

Accession Number: 20201106-5126.

Comments Due: 5 p.m. ET 11/27/20.

Docket Numbers: ER21-335-000.

Applicants: DifWind Farms Limited II.

Description: Tariff Cancellation: Notice of Cancellation to be effective 11/7/2020.

Filed Date: 11/6/20.

Accession Number: 20201106-5077.

Comments Due: 5 p.m. ET 11/27/20.

Docket Numbers: ER21-336-000.

Applicants: DifWind Farms Limited V.

Description: Tariff Cancellation: Notice of Cancellation to be effective 11/7/2020.

Filed Date: 11/6/20.

Accession Number: 20201106-5079.

Comments Due: 5 p.m. ET 11/27/20.

Docket Numbers: ER21-337-000.

Applicants: Alabama Power Company.

Description: § 205(d) Rate Filing: City of Troy NITSA Amendment Filing to be effective 10/7/2020.

Filed Date: 11/6/20.

Accession Number: 20201106-5080.

Comments Due: 5 p.m. ET 11/27/20.

Docket Numbers: ER21-338-000.

Applicants: Dutch Wind, LLC.

Description: Tariff Cancellation: Notice of Cancellation to be effective 11/7/2020.

Filed Date: 11/6/20.

Accession Number: 20201106-5081.

Comments Due: 5 p.m. ET 11/27/20.

Docket Numbers: ER21-339-000.

Applicants: EUI Affiliate LLC.

Description: Tariff Cancellation: Notice of Cancellation to be effective 11/7/2020.

Filed Date: 11/6/20.

Accession Number: 20201106-5084.

Comments Due: 5 p.m. ET 11/27/20.

Docket Numbers: ER21-340-000.

Applicants: PHWD Affiliate LLC.

Description: Tariff Cancellation: Notice of Cancellation to be effective 11/7/2020.

Filed Date: 11/6/20.

Accession Number: 20201106-5086.

Comments Due: 5 p.m. ET 11/27/20.

Docket Numbers: ER21-341-000.

Applicants: Refresh Wind, LLC.

Description: Tariff Cancellation: Notice of Cancellation to be effective 11/7/2020.

Filed Date: 11/6/20.

Accession Number: 20201106-5090.

Comments Due: 5 p.m. ET 11/27/20.

Docket Numbers: ER21-342-000.

Applicants: Refresh Wind 2, LLC.

Description: Tariff Cancellation: Notice of Cancellation to be effective 11/7/2020.

Filed Date: 11/6/20.

Accession Number: 20201106-5092.

Comments Due: 5 p.m. ET 11/27/20.

Docket Numbers: ER21-343-000.

Applicants: San Jacinto Wind II, LLC.

Description: Tariff Cancellation: Notice of Cancellation to be effective 11/7/2020.

Filed Date: 11/6/20.

Accession Number: 20201106-5094.

Comments Due: 5 p.m. ET 11/27/20.

Docket Numbers: ER21-344-000.

Applicants: Terra-Gen 251 Wind, LLC.

Description: Tariff Cancellation: Notice of Cancellation to be effective 11/7/2020.

Filed Date: 11/6/20.

Accession Number: 20201106-5098.

Comments Due: 5 p.m. ET 11/27/20.

Docket Numbers: ER21-345-000.

Applicants: Victory Garden Phase IV, LLC.

Description: Tariff Cancellation: Notice of Cancellation to be effective 11/7/2020.

Filed Date: 11/6/20.

Accession Number: 20201106-5101.

Comments Due: 5 p.m. ET 11/27/20.

Docket Numbers: ER21-346-000.

Applicants: VPI Enterprises, LLC.

Description: Tariff Cancellation: Notice of Cancellation to be effective 11/7/2020.

Filed Date: 11/6/20.

Accession Number: 20201106-5102.

Comments Due: 5 p.m. ET 11/27/20.

Docket Numbers: ER21-347-000.

Applicants: Massachusetts Electric Company.

Description: § 205(d) Rate Filing: Filing of Letter Agreement to Amend Service Agreement Rider with GE Company to be effective 10/7/2020.

Filed Date: 11/6/20.

Accession Number: 20201106-5103.

Comments Due: 5 p.m. ET 11/27/20.

Docket Numbers: ER21-348-000.

Applicants: Entergy Arkansas, LLC.

Description: Compliance filing: EAL-MSS-4 Successor eTariff Compliance to be effective 11/30/2018.

Filed Date: 11/6/20.

Accession Number: 20201106-5105.

Comments Due: 5 p.m. ET 11/27/20.

Docket Numbers: ER21-349-000.

Applicants: Southwest Power Pool, Inc.

Description: Notice of Cancellation of Generator Interconnection Agreement of Southwest Power Pool, Inc.

Filed Date: 11/6/20.

Accession Number: 20201106-5111.

Comments Due: 5 p.m. ET 11/27/20.

Docket Numbers: ER21-350-000.

Applicants: Highlander Solar Energy Station 1, LLC.

Description: Baseline eTariff Filing: Reactive Power Compensation Filing to be effective 12/1/2020.

Filed Date: 11/6/20.

Accession Number: 20201106-5137.

Comments Due: 5 p.m. ET 11/27/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 6, 2020.
Nathaniel J. Davis, Sr.,
Deputy Secretary.

[FR Doc. 2020-25110 Filed 11-12-20; 8:45 am]

BILLING CODE 6717-01-P